SECURITIES AND EXCHANGE COMMISSION

17 CFR Parts 200 and 240

[Release No. 34-86175A; File No. S7-08-12]

RIN 3235-AL12

Capital, Margin, and Segregation Requirements for Security-Based Swap Dealers and Major Security-Based Swap Participants and Capital and Segregation Requirements for Broker-Dealers; Correction

AGENCY: Securities and Exchange Commission.

ACTION: Final rule; correction.

SUMMARY: The Commission is correcting a final rule that appeared in the Federal Register on August 22, 2019. In the document, the Commission adopted capital and margin requirements for security-based swap dealers (“SBSDs”) and major security-based swap participants (“MSBSPs”), segregation requirements for SBSDs, and notification requirements with respect to segregation for SBSDs and MSBSPs in accordance with the Dodd-Frank Wall Street Reform and Consumer Protection Act.

DATES: Effective October 21, 2019.

FOR FURTHER INFORMATION CONTACT: Sheila Dombal Swartz, Senior Special Counsel, at (202) 551-5545; Division of Trading and Markets, Securities and Exchange Commission, 100 F Street NE, Washington, DC 20549-7010.

SUPPLEMENTARY INFORMATION: In FR Doc. 19-13609 appearing on page 43872 in the Federal Register of Thursday, August 22, 2019, the following corrections are made:

§ 200.30-3 [Corrected]

1. On page 44041, in the first column, in part 200, in amendment 2, the instruction “Section 200.30-3 is amended by revising paragraphs (a)(7) introductory text, (a)(7)(i) and (iv), (a)(7)(vi)(A) and (C) through (F), (a)(7)(vii) and (a)(10)(i) to read as follows:” is corrected to read “Section 200.30-3 is amended by revising paragraphs (a)(7) introductory text, (a)(7)(i) and (iv), (a)(7)(vi)(A) and (C) through (E), adding paragraphs (a)(7)(vi)(F) and (a)(7)(vii), and revising paragraph (a)(10)(i) to read as follows:”

Part 240 [Corrected]

2. On page 44041, in the third column, in part 240, in amendment 3, the instruction “The general authority citation for part 240 is revised, the sectional authorities for §§ 240.15c3-1 and 240.15c3-3 are revised, adding sectional authorities for §§ 240.15c3-1a, 240.15c3-1e, 240.15c3-3, 240.18a-1, 240.18a-1a, 240.18a-1b, 240.18a-1c, 240.18a-1d, 240-18a-2, 240.18a-3 and 240.18a-4 in numerical order to read as follows.” is corrected to read “The general authority citation for part 240 is revised, the sectional authorities for §§ 240.15c3-1 and 240.15c3-3 are revised, and sectional authorities for §§ 240.18a-1, 240.18a-1a, 240.18a-1b, 240.18a-1c, 240.18a-1d, 240-18a-2, 240.18a-3, and 240.18a-10 and § 240.18a-4 are added in numerical order to read as follows:”

Dated: October 4, 2019.
Vanessa A. Countryman,
Secretary.

[FR Doc. 2019-22053 Filed 10-11-19; 8:45 am]

BILLING CODE 8011-01-P